DEPARTMENT OF ENERGY

Federal Energy Regulatory Commission

[Docket No. GT01-15-002]

Texas Eastern Transmission, LP; Notice of Compliance Filing

June 12, 2001.

Take notice that on June 6, 2001, Texas Eastern Transmission, LP (Texas Eastern) tendered for filing as part of its FERC Gas Tariff, Seventh Revised volume No. 1, and First Revised volume No. 2, certain revised tariff sheets listed on Appendix A to the filing, proposed to be effective on April 16, 2001, and May 1, 2001.

Texas Eastern states that the purpose of this filing is to reflect the restatement of certain tariff sheets that were accepted by the Commission in orders issued subsequent to Texas Eastern's filing of its corporate name change on April 12, 2001, which was approved by the Commission's letter order dated May 10, 2001, in Docket No. GT01-15-000 et al.

Texas Eastern states that copies of its filing have been mailed to all affected customers and interested state commissions.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments, protests and interventions may be filed electronically via the internet in lieu of paper. See, 18 CFR 385.2001(a)(1)(iii) and the instructions on the Commission's web site at

http://www.ferc.fed.us/efi/ doorbell.htm.

David P. Boergers,
Secretary.

[FR Doc. 01-15238 Filed 6-15-01; 8:45 am]

BILLING CODE 6717-01-M